DEPARTMENT OF THE INTERIOR

Fish and Wildlife Service

[FWS-R9-SATD-2011-N263; FXSC142009000009A-123-FF09S0000]

National Fish, Wildlife, and Plants Climate Adaptation Strategy

AGENCY: Fish and Wildlife Service, Interior.

ACTION: Notice of availability; request for comments; announcement of public workshops.

SUMMARY: We, the U.S. Fish and Wildlife Service (Service), along with the National Oceanic and Atmospheric Administration (NOAA, Department of Commerce) and other Federal, State, and tribal partners, announce that we are seeking public comments and input regarding the draft National Fish, Wildlife, and Plants Climate Adaptation Strategy (Strategy). The purpose of the Strategy will be to inspire and enable natural resource professionals and other decision makers to take action to conserve the nation's fish, wildlife, plants, and ecosystem functions, as well as the human uses and values these natural systems provide, in a changing climate. In addition to this request for written comments, several public workshops will be conducted in order to provide additional opportunities for public involvement and discussion of the draft. The draft Strategy is available at the following link: http://www.wildlifeadaptationstrategy.gov/public-review-draft.php.

DATES: Submitting Comments: To ensure that we are able to consider your comments, we must receive them by March 5, 2012 (see ADDRESSES).

Public Workshops: Five workshops are being planned for the public. One workshop will be held in Washington, DC, and four additional workshops will be held at various regional venues around the country (Albany, NY; Charleston, SC; Madison, WI; and Sacramento, CA). Dates and addresses of the public workshops will be posted on the Strategy Web site (www.wildlifeadaptationstrategy.gov) as they become available. For more details, see ADDRESSES.

There will be two additional public workshops held as online web conferences or “webinars,” during which interested members of the public will be able to participate remotely. These web conferences will be held on January 26, 2012, and February 22, 2012.

We request that all persons planning to attend a workshop in person or participate via a webinar register at http://www.wildlifeadaptationstrategy.gov/public-workshops.php prior to the event. For more information or to register, please see “IV., Meeting Participation Information,” under SUPPLEMENTARY INFORMATION.

Tribal Consultation Sessions: Eight Tribal consultation sessions are being planned for January and February 2012. These consultation sessions will be held in Anchorage, AK; Albany, NY; Albuquerque, NM; Charleston, SC; Madison, WI; Oklahoma City, OK; Sacramento, CA; and Shelton, WA. Dates and addresses for the tribal consultation sessions will be posted on the strategy Web site (www.wildlifeadaptationstrategy.gov) as they become available.

ADDRESSES: Public Comments: To provide comments and feedback on the draft Strategy, please visit http://www.wildlifeadaptationstrategy.gov/public-comments.php. Alternatively, you may send comments by U.S. mail to the Office of the Science Advisor, Attn: National Fish, Wildlife, and Plants Climate Adaptation Strategy, U.S. Fish and Wildlife Service, 4401 N. Fairfax Drive, Suite 222, Arlington, VA 22203.

FOR FURTHER INFORMATION CONTACT: Mark Shaffer, Office of the Science Advisor, at (703) 358-2603 (telephone) or wildlifeadaptationstrategy@fws.gov (email), or via the Strategy Web site at http://www.wildlifeadaptationstrategy.gov/contact-us.php. If you use a telecommunications device for the deaf (TDD), please call the Federal Information Relay Service (FIRS) at (800) 877-8339.

SUPPLEMENTARY INFORMATION: In cooperation with NOAA and other Federal, State, and tribal partners, we are soliciting public comments on the draft National Fish, Wildlife, and Plants Climate Adaptation Strategy (Strategy).

The adverse impacts of climate change transcend political and administrative boundaries. No single entity or level of government can safeguard wildlife and society against the effects of climate change. When finalized, this draft Strategy will present a unified approach—reflecting shared principles and science-based practices—for reducing the negative impacts of climate change on fish, wildlife, plants, habitats, and our natural resource heritage. The Strategy will provide a basis for sensible actions that can be taken now, in spite of the uncertainties that exist about precise impacts of climate change. It also will provide guidance about what further actions are most likely to promote natural resource adaptation to climate change, and will describe mechanisms that will foster collaboration among all levels of government, conservation organizations, and private landowners.

I. Background

Climate change affects more than temperature. According to the U.S. Global Change Research Program, impacts include shifts in rainfall and storm patterns, increasing wildfires, and more frequent water shortages, as well as rising sea levels, loss of sea ice, ocean acidification, and coastal flooding and erosion. Given the magnitude of the observed changes in climate, it is not surprising that fish, wildlife, and plant resources in the United States and around the world are already being affected. The impacts can be seen everywhere, from working landscapes like tree farms and pastures to wilderness areas far from human habitation. As the climate continues to change over the next century, so too will the effects on species, ecosystems, and their functions. Furthermore, climate-induced changes are also likely to exacerbate existing stresses like habitat loss and fragmentation, putting additional pressure on our nation's valued living resources.

Rapid warming may also begin to threaten the benefits that natural systems provide to people and communities, creating new challenges for human health, infrastructure, agriculture, transportation, and energy supplies. At risk are clean air and water; flood and erosion control; natural resource jobs and income; hunting, fishing, and wildlife-related recreation; and, ultimately, our quality of life.

Most simply, climate adaptation means helping people and natural systems prepare for and cope with the effects of a changing climate. Climate adaptation is an essential complement to climate change mitigation, or efforts to decrease the rate and extent of climate change through reducing greenhouse gas emissions or enhancing carbon uptake and storage. Coordinated adaptation planning can help limit the damage climate change causes to our natural resources and communities, and will require new approaches, additional resources, and a coordinated approach across Federal, State, Tribal and local partners.

II. Strategy Development

Over the past decade, there have been an increasing number of calls for action by government and nongovernmental entities to better understand, prepare for, and address the impacts of climate change on natural resources and the communities that depend on those resources. For example, in 2007 the U.S. Government Accountability Office (GAO) released a study entitled “Climate Change: Agencies Should Develop Guidance for Addressing the Effects on Federal Land and Water Resources,” recommending that guidance and tools be developed to help Federal natural resource managers incorporate and address climate change in their resource management efforts. In 2008, the U.S. Global Change Research Program released the report “Preliminary Review of Adaptation Options for Climate-Sensitive Ecosystems and Resources,” which called for and identified a variety of new approaches to natural resource management to increase resiliency and adaptation of ecosystems and resources.

In 2009, Congress asked the Department of the Interior (DOI) and the White House Council on Council of Environmental Quality (CEQ) to develop a national, government-wide climate adaptation strategy for fish, wildlife, plants, and related ecological processes. Language in the Conference Report for the Fiscal Year (FY) 2010 Interior, Environment and Related Agencies Appropriations Act (House Report 111-316, pages 76-77) urged CEQ and DOI to “develop a national, government-wide strategy to address climate impacts on fish, wildlife, plants, and associated ecological processes” and “provide that there is integration, coordination, and public accountability to ensure efficiency and avoid duplication.” In addition, CEQ's Interagency Climate Change Adaptation Task Force supported this request and called for the development of a climate adaptation strategy for fish, wildlife, and plants in its 2010 Progress Report to the President.

In the fall of 2010, the U.S. Fish and Wildlife Service and CEQ invited NOAA and State wildlife agencies (with the New York Division of Fish, Wildlife and Marine Resources as the State agencies' lead representative) to co-lead the development of the strategy. The Association of Fish and Wildlife Agencies is also providing support through a cooperative agreement with the Service.

Initial public outreach during 2009 and 2010 contributed toward developing the following set of key principles to help guide this effort as it moves forward:

• Build a national framework for cooperative climate response.

• Respect jurisdictional authorities.

• Provide a blueprint for collective action that promotes collaboration and communication across government and non-government entities.

• Adopt a landscape/seascape-based approach that integrates best-available science and adaptive management.

• Focus actions and investments on natural resources of the United States and its Territories.

• Identify critical scientific and management needs.

• Engage the public.

• Integrate strategies for natural resources adaptation with those of other sectors such as transportation and agriculture.

• Identify opportunities to integrate climate adaptation and mitigation efforts.

• Act now: Time is of the essence.

In late 2010, a diverse group of Federal, State, and tribal agencies were asked to participate as members of an intergovernmental Steering Committee, to provide advice and support for development of the Strategy. The Steering Committee includes representatives from 16 Federal agencies with management authorities for fish, wildlife, plants, or habitat, as well as representatives from 5 State fish and wildlife agencies and two intertribal fish and wildlife commissions. The Steering Committee charged a small Management Team, made up of representatives of the FWS, NOAA, Association of Fish and Wildlife Agencies (on behalf of the States), the Great Lakes Indian Fish and Wildlife Commission, and the Bureau of Indian Affairs, to oversee the day-to-day development of the Strategy. The Management Team was asked to engage with a diverse group of stakeholders, as well as to coordinate and communicate across agencies and departments.

In March of 2011, the Management Team invited more than 90 natural resource professionals (both researchers and managers) from Federal, State, and tribal agencies to form five Technical Teams based around major U.S. ecosystems (marine, coastal, inland waters, forest, and combined grasslands/shrublands/deserts/tundra systems). These Teams, which were co-chaired by Federal, State, and tribal representatives, worked approximately 7 months to provide technical information on climate change impacts and to collectively develop strategies and actions for adapting to climate change.

We initially requested public comments and input on the development of the Strategy in a May 24, 2011, notice of intent in the Federal Register (76 FR 30193). After we incorporated initial input, in November 2011 we requested comments on a preliminary draft of the Strategy from selected Federal, State, and Tribal agencies.

We now open the public comment period (see DATES). After considering and incorporating comments from the public, we anticipate releasing a revised, final Strategy by early summer 2012.

Key milestones are shown below:

• Outreach and Engagement Sessions—2009/2010

• Steering Committee Formed—December 2010

• Technical Teams Established—February 2011

• Agency Review Draft Circulated—November 2011

• Public Review Draft Announced—January 2012

• Release Final Strategy—May/June 2012

Ultimately, the Strategy will be a blueprint for common action that outlines needed scientific support, policy, and legal frameworks; recommended management practices; processes for integration and communication; and a framework for implementing these approaches. It will enable national and international conservation communities to harness collective expertise, authority, and skills in order to define and prioritize a shared set of conservation goals and objectives.

III. Request for Public Comments

Public involvement is critical for the development of a robust and relevant response to the impacts of climate change. Particularly valuable to the effort are public guidance on priorities, recommendations for approaches, and suggestions based on local knowledge and experience.

Initial outreach and planning for the Strategy began in 2009 and early 2010, with a number of listening and engagement sessions, as well as several Conservation Leadership Forums. More information about past engagement efforts, as well as upcoming meetings and engagement opportunities, is available at http://www.wildlifeadaptationstrategy.gov/participate.php.

We will be accepting public comments through our Web site until the date specified in DATES. We will also accept verbal and written comments at upcoming public review workshops (see ADDRESSES).

We encourage the public to submit comments and input on the draft Strategy. The comments that are most useful are those that you support by quantitative information or studies and those that include citations and analyses of applicable laws and regulations. Please make your comments as specific as possible and explain the basis for them. In addition, please include sufficient information with your comments to allow us to authenticate any scientific or commercial data you include.

You must submit your comments and materials by one of the methods listed above in the ADDRESSES section. We will not accept comments sent to an address not listed in ADDRESSES.

We are committed to transparency in developing and implementing the National Fish, Wildlife, and Plants Climate Adaptation Strategy. The Service, NOAA, and other partners will also actively engage interested parties, including, as appropriate, State, Tribal, and local authorities; regional governance structures; academic institutions; nongovernmental organizations; recreational interests; and private enterprise.

IV. Meeting Participation Information

Several public workshops will be held around the country, as described in ADDRESSES. These workshops will provide interested members of the public the opportunity to learn more about the development and goals of the Strategy, ask questions, and provide their public comments verbally or in writing. If you wish to attend one of these workshops in person, please register online prior to the workshop through our Web site at http://www.wildlifeadaptationstrategy.gov/public-workshops.php.

There will also be two additional public workshops that will be held as an online web conference or “webinar” (see DATES). Interested members of the public will be able to participate remotely, including viewing a presentation and contributing questions and comments. For more information or to register for the web conference, please visit our Web site at http://www.wildlifeadaptationstrategy.gov/public-workshops.php.

Please visit the Strategy Web site at http://www.wildlifeadaptationstrategy.gov for additional background on the Strategy.

V. Public Availability of Comments

Before including your address, phone number, email address, or other personal identifying information in your comment, you should be aware that your entire comment—including your personal identifying information—may be made publicly available at any time. While you can ask us in your comment to withhold your personal identifying information from public review, we cannot guarantee that we will be able to do so.

VI. Authority

Conference Report for the Interior, Environment and Related Agencies Appropriations Act, 2010.

Gabriela Chavarria,
Science Advisor to the Director, U.S. Fish and Wildlife Service.

[FR Doc. 2012-1179 Filed 1-19-12; 8:45 am]

BILLING CODE 4310-55-P